DEPARTMENT OF ENERGY

Federal Energy Regulatory Commission

Combined Notice of Filings # 1

Take notice that the Commission received the following Complaints and Compliance filings in EL Dockets:

Docket Numbers: EL24-15-000.

Applicants: Tucson Electric Power Company v. California Independent System Operator Corporation.

Description: Complaint of Tucson Electric Power Company v. California Independent System Operator Corporation.

Filed Date: 11/14/23.

Accession Number: 20231114-5174.

Comment Date: 5 p.m. ET 12/4/23.

Take notice that the Commission received the following electric rate filings:

Docket Numbers: ER20-1735-002.

Applicants: Alabama Power Company.

Description: Compliance filing: Order No. 864 TFCAT Further Compliance Filing to be effective 1/27/2020.

Filed Date: 11/15/23.

Accession Number: 20231115-5080.

Comment Date: 5 p.m. ET 12/6/23.

Docket Numbers: ER23-2492-002.

Applicants: Gunvor USA LLC.

Description: Tariff Amendment: Amendment to 2 to be effective 9/24/2023.

Filed Date: 11/14/23.

Accession Number: 20231114-5133.

Comment Date: 5 p.m. ET 12/5/23.

Docket Numbers: ER23-2653-001.

Applicants: Alabama Power Company, Georgia Power Company, Mississippi Power Company.

Description: Tariff Amendment: Alabama Power Company submits tariff filing per 35.17(b): Wirth Forestry Solar LGIA Deficiency Response to be effective 8/7/2023.

Filed Date: 11/15/23.

Accession Number: 20231115-5074.

Comment Date: 5 p.m. ET 12/6/23.

Docket Numbers: ER24-396-000.

Applicants: Hopi Utilities Corporation.

Description: Petition for Limited Waiver of Hopi Utilities Corporation.

Filed Date: 11/13/23.

Accession Number: 20231113-5368.

Comment Date: 5 p.m. ET 11/20/23.

Docket Numbers: ER24-397-000.

Applicants: PJM Interconnection, L.L.C.

Description: 205(d) Rate Filing: Amendment to ISA and CSA, SA Nos. 6542 and 6543; Queue No. AC1-033 to be effective 1/15/2024.

Filed Date: 11/15/23.

Accession Number: 20231115-5057.

Comment Date: 5 p.m. ET 12/6/23.

Docket Numbers: ER24-398-000.

Applicants: Southwest Power Pool, Inc.

Description: 205(d) Rate Filing: 3983 Flat Ridge 5 Wind Energy GIA Cancellation to be effective 8/22/2023.

Filed Date: 11/15/23.

Accession Number: 20231115-5060.

Comment Date: 5 p.m. ET 12/6/23.

Docket Numbers: ER24-399-000.

Applicants: Chief Conemaugh Power, LLC.

Description: 205(d) Rate Filing: Ministerial Revisions to Joint Reactive Rate Schedules to be effective 12/31/9998.

Filed Date: 11/15/23.

Accession Number: 20231115-5077.

Comment Date: 5 p.m. ET 12/6/23.

Docket Numbers: ER24-400-000.

Applicants: Chief Keystone Power, LLC.

Description: 205(d) Rate Filing: Ministerial Revisions to Joint Reactive Rate Schedules to be effective 12/31/9998.

Filed Date: 11/15/23.

Accession Number: 20231115-5083.

Comment Date: 5 p.m. ET 12/6/23.

Docket Numbers: ER24-401-000.

Applicants: ISO New England Inc., New England Power Pool Participants Committee.

Description: 205(d) Rate Filing: ISO New England Inc. submits tariff filing per 35.13(a)(2)(iii: Targeted Adj. to Certain FCM Parameters to Reflect Min. Offer Price Rule Elim. to be effective 1/15/2024.

Filed Date: 11/15/23.

Accession Number: 20231115-5095.

Comment Date: 5 p.m. ET 12/6/23.

Docket Numbers: ER24-402-000.

Applicants: PJM Interconnection, L.L.C.

Description: 205(d) Rate Filing: OATT Revisions Distinguishing Regional & Cross-Border NITS to be effective 1/13/2024.

Filed Date: 11/15/23.

Accession Number: 20231115-5106.

Comment Date: 5 p.m. ET 12/6/23.

Docket Numbers: ER24-402-001.

Applicants: PJM Interconnection, L.L.C.

Description: Tariff Amendment: Correction to OATT Revisions Distinguishing Regional & Cross-Border NITS to be effective 1/15/2024.

Filed Date: 11/15/23.

Accession Number: 20231115-5140.

Comment Date: 5 p.m. ET 12/6/23.

Docket Numbers: ER24-403-000.

Applicants: Talen Conemaugh LLC.

Description: Baseline eTariff Filing: Certificate of Concurrence to be effective 12/31/9998.

Filed Date: 11/15/23.

Accession Number: 20231115-5136.

Comment Date: 5 p.m. ET 12/6/23.

Docket Numbers: ER24-404-000.

Applicants: PJM Interconnection, L.L.C.

Description: 205(d) Rate Filing: Amendment to ISA, Service Agreement No. 6609; Queue No. AD1-025 to be effective 1/15/2024.

Filed Date: 11/15/23.

Accession Number: 20231115-5137.

Comment Date: 5 p.m. ET 12/6/23.

Docket Numbers: ER24-405-000.

Applicants: Talen Keystone LLC.

Description: Baseline eTariff Filing: Certificate of Concurrence to be effective 12/31/9998.

Filed Date: 11/15/23.

Accession Number: 20231115-5141.

Comment Date: 5 p.m. ET 12/6/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 15, 2023.
Debbie-Anne A. Reese,
Deputy Secretary.

[FR Doc. 2023-25737 Filed 11-20-23; 8:45 am]

BILLING CODE 6717-01-P